DEPARTMENT OF ENERGY

Federal Energy Regulatory Commission

[Project No. 2145-060]

Public Utility District No. 1 of Chelan County; Notice of Technical Conference

September 23, 2005.

The Commission hereby gives notice that members of its staff will meet with Public Utility District No. 1 of Chelan County (Chelan PUD) and other stakeholders on October 19, 2005, from 1 p.m. to 3 p.m. (EST) at the Federal Energy Regulatory Commission, 888 First Street, NE., Washington, DC 20426, Conference Room 3M-3. There will also be a satellite location for this technical conference located in Wenatchee, Washington via teleconferencing. The Wenatchee location is the Chelan PUD Auditorium at 327 North Wenatchee Avenue, Wenatchee, WA 98801. Meeting time for this location is 10 a.m. to 12 p.m. (PST). Any additional information will be posted on the Commission's Web site soon at: http://www.ferc.gov/EventCalendar/EventsADay.aspx?Date=3/16/2005&CalendarID=0.

The purpose of the conference is to discuss the Commission's Draft Environmental Impact Statement (issued on August 31, 2005) on Chelan PUD's license application for the Rocky Reach Hydroelectric Project. The Rocky Reach Hydroelectric Project is located on the Columbia River in Chelan County, Washington.

FERC conferences are accessible under section 508 of the Rehabilitation Act of 1973. For accessibility accommodations please send an e-mail to accessibility@ferc.gov or call toll free 1-866-208-3372 (voice) or (202) 208-1659 (TTY), or send a fax to (202) 208-2106 with the required accommodations.

This conference is open to the public. All local, State, and Federal agencies, Indian tribes, and other interested parties are invited to participate. There will be no transcript of the conference. If interested parties are unable to attend this conference at the two locations above, but would like to participate via teleconferencing, please contact Kim Nguyen at kim.nguyen@ferc.gov or (202) 502-6105 for the call in number.

Please also contact Ms. Nguyen with any questions or for additional information.

Magalie R. Salas,
Secretary.

[FR Doc. E5-5377 Filed 9-30-05; 8:45 am]

BILLING CODE 6717-01-P